DEPARTMENT OF COMMERCE

International Trade Administration

University of Dayton Research Institute, et al., Notice of Consolidated Decision on Applications, for Duty-Free Entry of Electron Microscopes

This is a decision consolidated pursuant to Section 6(c) of the Educational, Scientific, and Cultural Materials Importation Act of 1966 (Pub. L. 89-651, 80 Stat. 897; 15 CFR part 301). Related records can be viewed between 8:30 A.M. and 5:00 P.M. in Room 2104, U.S. Department of Commerce, 14th and Constitution Avenue, NW., Washington, DC.

Docket Number: 08-010. Applicant: University of Dayton Research Institute, Dayton, OH 45469-0106. Instrument: Electron Microscope, Model FEI Quanta 600 FEG. Manufacturer: FEI Company, Czech Republic. Intended Use: See notice at 73 FR 21310, April 21, 2008.

Docket Number: 08-011. Applicant: University of Minnesota Institute of Technology Characterization Facility, Minneapolis, MN 55455. Instrument: Electron Microscope, Model Tecnai G2 F30 Twin. Manufacturer: FEI Company, Netherlands. Intended Use: See notice at 73 FR 21310, April 21, 2008.

Docket Number: 08-012. Applicant: Alfred E. Mann Foundation for Scientific Research, Santa Clarita, CA 91355. Instrument: Electron Microscope, Model FEI Inspect S. Manufacturer: FEI Company, Czech Republic. Intended Use: See notice at 73 FR 21310, April 21, 2008.

Docket Number: 08-013. Applicant: National Institutes of Health, Bethesda, MD 20892. Instrument: Electron Microscope, Model Tecnai G2 20 Twin. Manufacturer: FEI Company, Netherlands. Intended Use: See notice at 73 FR 21310, April 21, 2008.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Dated: May 19, 2008.
Faye Robinson,
Director, Statutory Import Programs Staff, Import Administration.

[FR Doc. E8-11624 Filed 5-22-08; 8:45 am]

BILLING CODE 3510-DS-S